DEPARTMENT OF TRANSPORTATION

Federal Transit Administration

Environmental Impact Statement; East Link Project, WA

AGENCY: Federal Transit Administration (FTA), Department of Transportation (DOT).

ACTION: Notice of Intent to prepare an Environmental Impact Statement (EIS).

SUMMARY: The Federal Transit Administration and the Central Puget Sound Regional Transit Authority (Sound Transit) intend to prepare an Environmental Impact Statement (EIS) in accordance with the National Environmental Policy Act (NEPA) for Sound Transit's proposed 11 to 19-mile extension of the Central Link Light rail transit project from Seattle to the cities of Mercer Island, Bellevue, and Redmond, within King County, Washington. The EIS will also be prepared in accordance with the provisions of the recently enacted Safe, Accountable, Flexible, Efficient Transportation Equity Act: A Legacy for Users (SAFETEA-LU), and with Washington's State Environmental Policy Act (SEPA). The purpose of this Notice of Intent is to alert interested parties regarding the plan to prepare the EIS, to provide information on the nature of the proposed transit project, to invite participation in the EIS process, including comments on the scope of the EIS proposed in this notice, and to announce that public scoping meetings will be conducted. The EIS will address the no action alternative and reasonable alternatives that meet the project purpose and need.

DATES: Written comments on the scope of alternatives and impacts to be considered in the EIS must be received no later than October 2, 2006, and must be sent to Sound Transit at the address indicated below.

ADDRESSES: Written comments on the scope of alternatives, impacts to be evaluated, and the preliminary purpose and need statement should be sent to James Irish, Link Environmental Manager, Sound Transit, 401 S. Jackson Street, Seattle, WA 98104 or by e-mail to eastlinkscopingcomments@soundtransit.org.

Four public scoping meetings and a governmental agency scoping meeting will be held in September 2006 at the dates and locations provided below. Oral and written comments may be given at the scoping meetings. All public meeting locations are accessible to persons with disabilities who may also request this information be prepared and supplied in alternate formats by calling Brooke Belman, (206) 398-5238 at least 48-hours in advance of the meeting for Sound Transit to make necessary arrangement. Persons who are deaf or hard of hearing may call (888) 713-6030 TTY.

Public Scoping Meetings

September 13, 2006, 4:30 to 7:30 p.m., Meydenbauer Center, 11100 NE 6th Street, Bellevue, WA 98004.

September 14, 2006, 4:30 to 7:30 p.m., Old Redmond School House Community Center, 16600 NE 80th Street, Redmond, WA 98073.

September 20, 2006, 4:30 to 7:30 p.m., Union Station, Sound Transit Board Room, 401 S. Jackson Street, Seattle, WA 98104.

September 21, 2006, 4:30 to 7:30 p.m., Community Center at Mercer View, Clarke Room, 8236 SE 24th Street, Mercer Island, WA 98040.

Agency Scoping Meeting

September 12, 2006, 1 p.m. to 3 p.m., Bellevue City Hall, 450 110th Avenue NE, Bellevue, WA 98004.

FOR FURTHER INFORMATION CONTACT: John Witmer, Federal Transit Administration, 915 2nd Avenue, Suite 3142, Seattle, WA 98174, Telephone: (206) 220-7964.

SUPPLEMENTARY INFORMATION:

Description of Study Area

The proposed extension of light rail transit in Seattle to the Eastside centers of Bellevue and Redmond via Interstate 90 (I-90) in King County, Washington, begins at the International District Station in downtown Seattle and goes east along I-90 across Mercer Island to Bellevue, north through downtown Bellevue, to the Redmond employment center of Overlake, and on to downtown Redmond.

In May 2004, the Federal Highway Administration (FHWA), the Washington State Department of Transportation (WSDOT), and Sound Transit published the I-90 Two-Way Transit and HOV Operations Final EIS which identified Alternative R-8A as the preferred alternative. Briefly stated, Alternative R-8A would provide one additional High Occupancy Vehicle (HOV) lane in each direction on the outer roadways between I-5 and Bellevue Way by restriping and, where feasible, widening the outer roadways within existing right-of-way while maintaining the existing two-lane reversible HOV operations on the center roadway. Between Rainier Avenue and Bellevue Way, this lane will be for the exclusive use of HOV traffic. R8-A also includes two new HOV direct access exit ramps and modifies existing HOV ramps. In August 2004 the Sound Transit Board executed an amendment to the 1976 Memorandum Agreement with the cities of Seattle, Mercer Island and Bellevue; the Municipality of Metropolitan Seattle; King County; and the Washington State Highway Commission pertaining to the design and construction of I-90 implementing Alternative R-8A, which identifies the ultimate configuration for I-90 with high capacity transit (HCT) in the center roadway. “HCT” was defined in the Final EIS and 2004 amendment as “* * *a transit system operating in dedicated right-of-way such as light rail, monorail or a substantially equivalent system.” On September 28, 2004, FHWA issued a Record of Decision on the project that concurs with WSDOT and Sound Transit in the designation of Alternative R8-A as the selected alternative for the I-90 Two-Way Transit and HOV Operations Project in Bellevue, Mercer Island and Seattle, King County, Washington. One reason Alternative R8-A was selected was that it would accommodate the ultimate configuration of I-90 with High Capacity Transit in the center lanes. On July 13, 2006, the Sound Transit Board identified light rail transit as the preferred technology for high capacity transit in the corridor from Seattle to Bellevue and Redmond via I-90 and Mercer Island. A report describing the project's planning history leading to this decision, East Corridor High Capacity Transit Mode Analysis History (July 2006), is available upon request, at area libraries, and on the Sound Transit Web site.

Preliminary Purpose of and Need for the Proposed Project

The East Link project is needed because of projected population and business growth and increased demand for transit service connecting Seattle, Bellevue and Redmond. Regional urban center density plans assume high capacity transit investments to overcome dramatically increased congestion on I-90 between Seattle and Bellevue, operating deficiencies in transit service reliability and speed, and limited transit capacity and connectivity between major employment centers.

The purpose of the East Link Project is to expand the Sound Transit Central Link light rail system from Seattle to Bellevue and Redmond via I-90 and Mercer Island, to provide a reliable and efficient alternative for moving people throughout the region. Supporting project objectives include improving speed and reliability and expanding capacity for people traveling on the region's increasingly congested roadways while preserving the environment; increasing mobility and accessibility to and from the region's highest concentrations of employment and housing; supporting VISION 2020 and Destination 2030 regional transportation plan objectives to encourage directing growth into high-density urban and manufacturing centers by providing high-capacity transit connection between these centers and with other regional destinations; fulfilling Sound Transit's legislative mandate to meet public transportation and mobility needs for high-capacity infrastructure in the central Puget Sound region; continuing to implement the goals and objectives identified in Sound Transit's Long-Range Plan; implementing the high-capacity transit element of the I-90 Two Way Transit and HOV Operations Project Final EIS, FHWA's Record of Decision, and the August 2004 Amendment to the 1976 Memorandum Agreement between King County; the cities of Bellevue, Seattle, and Mercer Island; the Washington State Transportation Commission; and Sound Transit to provide high capacity transit in the center lanes of I-90 between Bellevue and Seattle as quickly as possible; and more fully develop a regional transit system that would integrate with the Central Link light-rail line, providing direct connections among the largest urban centers in King County, including Bellevue, Overlake, Redmond, downtown Seattle, Capitol Hill, and the University District.

FTA and Sound Transit seek public and agency comment on this preliminary purpose and need for this proposed action. The full text of the preliminary purpose and need statement is included in the environmental scoping information report available by contacting Sound Transit as described below.

Alternatives

The EIS will address the no action alternative and reasonable alternatives that meet the project purpose and need. The project corridor has been divided into 5 segments. Proposed route alternatives within each segment are described below.

Segment A: Seattle to South Bellevue

Segment A consists of one route alternative from the existing Central Link light rail Chinatown/International District Station on to I-90 via the D2 roadway, a high occupancy vehicle (HOV) ramp between downtown Seattle and Rainier Avenue. The route would be in the center lanes of I-90 across Lake Washington and Mercer Island.

Segment B: South Bellevue to Downtown Bellevue

Three Segment B alternatives leave I-90 at Bellevue Way SE. and follow Bellevue Way SE. north. One route continues along Bellevue Way SE. north all the way to downtown Bellevue. Another route alternative diverges from Bellevue Way SE. following 112th Avenue SE. to downtown Bellevue, and a third option turns east from 112th Avenue SE. to SE. 8th Street and then follows I-405 north to downtown Bellevue. Two Segment B alternatives would continue east from Bellevue Way on the north side of I-90, one heading north in the vicinity of Lake Washington Boulevard/118th Avenue SE. and one heading north in the vicinity of the BNSF railroad. At SE. 8th Street, either alternative could continue north near I-405 or turn west on SE. 8th Street and then head north on 112th Avenue to downtown Bellevue.

Segment C: Downtown Bellevue

Route alternatives in downtown Bellevue approach from the south, pass near the Bellevue Transit Center, and turn east toward Overlake and Redmond. The Segment B route that follows Bellevue Way SE. all the way downtown would continue along Bellevue Way NE. and turn east toward the center of downtown and the Bellevue Transit Center in the vicinity of NE. 6th Street. Other routes approaching downtown along 112th Avenue SE. or by I-405 and 118th Avenue SE. would follow 108th Avenue NE., 110th Avenue NE., or 112th Avenue NE. Routes would turn east and cross I-405 near NE. 6th or NE. 7th Streets or continue through downtown, turning east and crossing I-405 at NE. 12th Street.

Segment D: Downtown Bellevue to Overlake Transit Center

Segment D alternatives begin at NE. 6th, NE. 7th, or NE. 12th Streets and head east through the Bel-Red corridor toward the Overlake area of Redmond. There are several route options beginning from Segment C at NE. 12th Street. Alternatives follow Bel-Red Road, SR 520, or along a new corridor aligned with NE. 16th Avenue Street. In the eastern half of Segment D, route alternatives may also follow 136th Place NE. and NE. 20th Street. Alternatives then turn north along 151st Place NE, 152nd Avenue NE., or SR 520 and follow SR 520 to Overlake Transit Center.

Segment E: Overlake Transit Center to Redmond

All route options in Segment E follow SR 520 diverging to serve downtown Redmond. Three alternatives utilize the BNSF railroad corridor through downtown Redmond, accessing it from West Lake Sammamish Parkway and Redmond Way, Leary Way, or near the SR 202 and SR 520 interchange. A fourth route option veers east from SR520 toward NE. 72nd Street to Bear Creek Parkway, crossing Redmond Way to the Bear Creek Park and Ride via Avondale Road NE. Two of the BNSF corridor alternatives continue to the east along the corridor past the Redmond Town Center ending near NE. 70th Street and 176th Avenue NE. The route from the SR 202 interchange heads west along the BNSF corridor and then turns north at 161st Avenue NE. to the Redmond Park and Ride at NE. 83rd Street.

Potential project termini include Bellevue near Overlake Hospital and Redmond at either the Overlake Transit Center or downtown Redmond, depending upon project cost and available funding.

The EIS Process and Role of Participating Agencies and the Public

The purpose of the EIS process is to explore, in a public setting, potentially significant effects of implementing the proposed action and alternatives on the physical, human, and natural environment. Areas of investigation include, but are not limited to, transportation, land use, development potential, land acquisition and displacements, historic resources, visual and aesthetic qualities, air quality, noise and vibration, energy use, safety and security, and ecosystems, including threatened and endangered species. These effects will be evaluated for both the construction period and the long-term period of operation. Cumulative impacts will also be evaluated. Measures to avoid, minimize, or mitigate significant adverse impacts will be identified.

Regulations implementing NEPA, as well as provisions of the recently enacted Safe, Accountable, Flexible, Efficient Transportation Equity Act: A Legacy for Users (SAFETEA-LU), call for public involvement in the EIS process. Section 6002 of SAFETEA-LU requires that this agency: (1) Extend an invitation to other Federal and non-Federal agencies and Indian tribes that may have an interest in the proposed project to become “participating agencies,” (2) provide an opportunity for involvement by participating agencies and the public in helping to define the purpose and need for a proposed project, as well as the range of alternatives for consideration in the impact statement, and (3) establish a plan for coordinating public and agency participation in and comment on the environmental review process.

This notice of intent constitutes an invitation to other Federal and non-Federal agencies and Indian tribes that may have an interest in the proposed project to become a participating agency in the environmental review process. It is also an invitation for public and agency involvement. A public and agency involvement Coordination Plan will be created. The program will include a project Web site; outreach to local jurisdictions and community and civic groups through a variety of methods; a public scoping process to define the issues of concern among all parties interested in the project; a public hearing on release of the draft environmental impact statement; and development and distribution of project fact sheets.

In accordance with 23 CFR 771.105(a) and 771.133, FTA will comply with all Federal environmental laws, regulations, and executive orders applicable to the proposed project during the environmental review process to the maximum extent practicable. These requirements include, but are not limited to, the regulations of the Council on Environmental Quality and FTA implementing NEPA (40 CFR parts 1500-1508, and 23 CFR Part 771), the project-level air quality conformity regulation of the U.S. Environmental Protection Agency (EPA) (40 CFR part 93), the Section 404(b)(1) guidelines of EPA (40 CFR part 230), the regulation implementing Section 106 of the National Historic Preservation Act (36 CFR Part 800), the regulation implementing section 7 of the Endangered Species Act (50 CFR part 402), Section 4(f) of the DOT Act (23 CFR 771.135), and Executive Orders 12898 on environmental justice, 11988 on floodplain management, and 11990 on wetlands.

Scoping

The FTA and Sound Transit invite comments from interested individuals, organizations, and Federal, state, regional and local agencies for a period of 30 days after publication of this notice. Comments should focus on defining the alternatives within the corridor to be evaluated in the EIS; identifying any significant environmental issues related to the alternatives; and the preliminary purpose and need statement as noted here. Additional reasonable alternatives suggested during the scoping process, including those involving other transit modes or route alignments, will be considered. An Environmental Scoping Information Report describing the project, the proposed preliminary alternatives and station locations, the impact areas to be evaluated, and the preliminary EIS schedule has been prepared. The Environmental Scoping Information Report also includes the preliminary purpose and need statement, which is summarized in this notice, as well as a summary of the project's planning history.

You may request a copy of the Environmental Scoping Information Report by contacting Brooke Belman, Sound Transit, 401 S. Jackson Street, Seattle, WA 98104-2826, Telephone: (206) 398-5238, or E-mail: belmanb@soundtransit.org. A copy of the report is also available at Sound Transit's Web site at http://www.soundtransit.org. A more detailed report on the project's planning history, including public and agency outreach efforts, East Corridor High Capacity Transit Mode Analysis History (July 2006) is also available upon request, at local libraries, and on the Sound Transit Web site.

Comments: Written comments may be submitted to James Irish, Sound Transit Link Environmental Manager, at the address given above by October 2, 2006. Written comments may be made at the public scoping meetings. In addition, a stenographer will be available at the public scoping meetings to record oral comments. The dates and addresses of the scoping meetings are given in the DATES and ADDRESSES sections above.

Issued on: August 15, 2006.
R. F. Krochalis,
Regional Administrator, Region X, Federal Transit Administration.

[FR Doc. E6-13896 Filed 8-21-06; 8:45 am]

BILLING CODE 4910-57-P